DEPARTMENT OF AGRICULTURE

Submission for OMB Review; Comment Request

August 13, 2008.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Poultry Meat and Other Poultry Products from Sinaloa and Sonora, Mexico.

OMB Control Number: 0579-0144.

Summary of Collection: Veterinary Services, a program within USDA's Animal and Plant Health Inspection Service (APHIS), is responsible for administering regulations intended to prevent the introduction of animal diseases, such as exotic Newcastle disease (END) into the United States. APHIS currently has regulations in place that restrict the importation of poultry meat and other poultry products from Mexico due to the presence of exotic Newcastle disease in the country. However, APHIS does allow the importation of poultry meat and poultry products from the Mexican States of Sinaloa and Sonora because APHIS has determined that poultry meat and products from these two Mexican States pose a negligible risk of introducing exotic Newcastle disease into the United States. To ensure that these items are safe for importation, APHIS requires that certain data appear on the foreign meat inspection certificate that accompanies the poultry meat and other poultry products from Sinaloa and Sonora to the United States. APHIS also requires that serial numbered seals be applied to containers carrying the poultry meat and other poultry products.

Need and Use of the Information: APHIS will collect information to certify that the poultry meat or other poultry products were (1) derived from poultry born and raised in commercial breeding establishments in Sinaloa and Sonora; (2) derived from poultry that were slaughtered in Sinaloa or Sonora in a Federally-inspected slaughter plant approved to export these commodities to the United States in accordance with Food Safety & Inspection regulations; (3) processed at a Federally inspected processing plant in Sinaloa or Sonora; and (4) kept out of contact with poultry from any other State within Mexico. APHIS will also collect information to ensure that the poultry meat or poultry products from Sinaloa and Sonora pose the most negligible risk possible for introducing exotic Newcastle disease into the United States.

Description of Respondents: Business or other for-profit; Federal Government.

Number of Respondents: 20.

Frequency of Responses: Reporting: On occasion.

Total Burden Hours: 40.

Animal and Plant Health Inspection Service

Title: Poultry and Pork Products Transiting the United States.

OMB Control Number: 0579-0145.

Summary of Collection: The United States Department of Agriculture (USDA) and the Animal & Plant Health Inspection Service (APHIS) is responsible for controlling and eliminating domestic animal diseases such as brucellosis and scrapie, as well as preventing the introduction of exotic animal diseases such as hog cholera, exotic Newcastle disease (END) and other foreign diseases. Disease prevention is the most effective method for maintaining a healthy animal population and enhancing the United States' ability to compete in exporting animals and animal products. The regulations under which APHIS conducts disease prevention activities are contained in title 9, chapter D, parts 91 through 99 of the Code of Federal Regulations. APHIS has determined that fresh pork and pork products, as well as poultry carcasses, parts and products from Mexican States can transit the United States with minimal risk of introducing hog cholera or END. Allowing fresh pork and pork products as well as poultry carcasses, parts, and products from certain Mexican States to transit the United States necessitates the use of several information collection activities, which include the completion of an import permit application, the placement of serial numbered seals on product containers, and the forwarding of a written, pre-arrival notification to APHIS port personnel.

Need and Use of the Information: APHIS will collect information to ensure that fresh pork and pork products, as well as poultry carcasses, parts, and products transiting the United States from Mexico pose a negligible risk of introducing hog cholera and END into the United States. APHIS will also collect the name, address of the exporter, the origin and destination points of entry, the date of transportation, the method and route of shipment, the time and date the items are expected to arrive at the port, how long the items are expected to be in the United States, the permit number of the shipment, and the serial numbers of the seals on the shipment containers. If the information is not collected, it would make disease incursion event much more likely, with potentially devastating affects on the U.S. swine and poultry industries.

Description of Respondents: Business or other for-profit; farm; individual or households; not-for-profit institutions; Federal Government; State, Local or Tribal Government.

Number of Respondents: 22.

Frequency of Responses: Reporting: On occasion.

Total Burden Hours: 279.

Animal and Plant Health Inspection Service

Title: Foot-and-Mouth Disease; Prohibition on Importation of Farm Equipment.

OMB Control Number: 0579-0195.

Summary of Collection: Regulations contained in 9 CFR parts 92 through 98 prohibits the importation of used farm equipment into the United States from regions in which foot-and-mouth disease or rinderpest exist, unless the equipment has been steam-cleaned prior to export to the United States so that it is free of exposed dirt and other particulate matter. Disease prevention is the most effective method for maintaining a healthy animal population and enhancing the Animal and Plant Health Inspection Service (APHIS) ability to compete in exporting animals and animal products.

Need and Use of the Information: APHIS will collect information through the use of a certification statement in which the exporter states that the cleaning of the equipment has been done. This is necessary to help prevent the introduction of foot-and-mouth disease into the United States. If the information were not collected APHIS would be forced to discontinue the importation of any used farm equipment from FMD regions, a development that could have a damaging financial impact on exporters and importers of this equipment.

Description of Respondents: Business or other for-profit; State, Local or Tribal Government.

Number of Respondents: 1,000.

Frequency of Responses: Reporting: On occasion.

Total Burden Hours: 2,000.

Ruth Brown,
Departmental Information Collection Clearance Officer.

[FR Doc. E8-19092 Filed 8-15-08; 8:45 am]

BILLING CODE 3410-34-P